DEPARTMENT OF TRANSPORTATION

Federal Aviation Administration

14 CFR Part 39

[Docket No. FAA-2006-24093; Directorate Identifier 2006-CE-19-AD; Amendment 39-14683; AD 2006-15-03]

RIN 2120-AA64

Airworthiness Directives; Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 Airplanes

AGENCY: Federal Aviation Administration (FAA), DOT.

ACTION: Final rule.

SUMMARY: We are adopting a new airworthiness directive (AD) that supersedes AD 2003-13-04, which applies to certain Pilatus Aircraft Ltd (Pilatus) Model PC-6 airplanes. AD 2003-13-04 currently requires you to inspect the integral fuel tank wing ribs for cracks and the top and bottom wing skins for distortion, repair any cracks or distortion before further flight, and do a fuel tank ventilating system installation. Since we issued AD 2003-13-04, the FAA determined the action should also apply to all the models of the PC-6 airplanes listed in the type certificate data sheet of Type Certificate (TC) No. 7A15 that were produced in the United States through a licensing agreement between Pilatus and Fairchild Republic Company (also identified as Fairchild Industries, Fairchild Heli Porter, or Fairchild-Hiller Corporation). In addition, the intent of the applicability of AD 2003-13-04 was to apply to all the affected serial numbers of the airplane models listed in TC No. 7A15. This AD retains all the actions of AD 2003-13-04, adds those Fairchild Republic Company airplanes to the applicability of this AD, and lists the individual specific airplane models. We are issuing this AD to detect and correct cracks in the ribs of the inboard integral fuel tanks in the left and right wings, which could lead to wing failure during flight with consequent loss of control of the airplane.

DATES: This AD becomes effective on August 23, 2006.

As of August 15, 2003 (68 FR 37394, June 24, 2003), the Director of the Federal Register previously approved the incorporation by reference of Pilatus Aircraft Ltd. PC-6 Service Bulletin No. 57-002, dated November 27, 2002; and Pilatus Aircraft Ltd. PC-6 Service Bulletin No. 118, dated December 1972, in accordance with 5 U.S.C. 552(a) and 1 CFR part 51.

ADDRESSES: To get the service information identified in this AD, contact Pilatus Aircraft Ltd., Customer Liaison Manager, CH-6371 Stans, Switzerland; telephone: +41 41 619 63 19; facsimile: +41 41 619 6224.

To view the AD docket, go to the Docket Management Facility; U.S. Department of Transportation, 400 Seventh Street, SW., Nassif Building, Room PL-401, Washington, DC 20590-001 or on the Internet at http://dms.dot.gov. The docket number is FAA-2006-24093; Directorate Identifier 2006-CE-19-AD.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

On May 3, 2006, we issued a proposal to amend part 39 of the Federal Aviation Regulations (14 CFR part 39) to include an AD that would apply to all the models of the PC-6 airplanes listed in the type certificate data sheet of TC No. 7A15 that were produced in the United States through a licensing agreement between Pilatus and Fairchild Republic Company (also identified as Fairchild Industries, Fairchild Heli Porter, or Fairchild-Hiller Corporation) airplanes. This proposal was published in the Federal Register as a notice of proposed rulemaking (NPRM) on May 9, 2006 (71 FR 26882). The NPRM proposed to supersede AD 2003-13-04 (68 FR 37394, June 24, 2003), add those Fairchild Republic Company airplanes to the applicability of this proposed AD, and would list the individual specific airplane models. The NPRM proposed to retain all of the actions of AD 2003-13-04 for inspecting the integral fuel tank wing ribs for cracks and the top and bottom wing skins for distortion, repairing any cracks or distortion before further flight, and installing a fuel tank ventilating system.

Comments

We provided the public the opportunity to participate in developing this AD. We received one comment in favor of the proposed AD.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 49 airplanes in the U.S. registry.

We estimate the following costs to do the inspection:

Labor cost | Parts cost | Total cost per airplane | Total cost on U.S. operators
5 work-hours × $80 per hour = $400 | Not applicable | $400 | $19,600

We estimate the following costs for each rib to do any necessary rib repair that will be required based on the results of the inspection. We have no way of determining the number of airplanes that may need this repair:

Labor cost | Parts cost | Total cost per rib
3 work-hours × $80 per hour = $240 per rib | $50 per rib | $290

We estimate the following costs to install any inboard fuel tank ventilating system that will be required based on the results of this inspection. We have no way of determining the number of airplanes that may need such an installation.

Labor cost | Parts cost | Total cost per airplane
12 work-hours × $80 per hour = $960 | $200 | $1,160

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-24093; Directorate Identifier 2006-CE-19-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2003-13-04, 39-13204 (68 FR 37394, June 24, 2003), and by adding the following new AD:

2006-15-03 Pilatus Aircraft Ltd.: Amendment 39-14683; Docket No. FAA-2006-24093; Directorate Identifier 2006-CE-19-AD.

Effective Date

(a) This AD becomes effective on August 23, 2006.

Affected ADs

(b) This AD supersedes AD 2003-13-04, Amendment 39-13204.

Applicability

(c) This AD affects the following Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes that are equipped with turbo-prop engines and are certificated in any category:

(1) Group 1 (maintains the actions from AD 2003-13-04): All manufacturer serial numbers (MSN) up to and including 939.

(2) Group 2: MSN 2001 through 2092.

Note: These airplanes are also identified as Fairchild Republic Company PC-6 airplanes, Fairchild Industries PC-6 airplanes, Fairchild Heli Porter PC-6 airplanes, or Fairchild-Hiller Corporation PC-6 airplanes.

Unsafe Condition

(d) This AD results from mandatory continuing airworthiness information (MCAI) issued by the airworthiness authority for Switzerland that requires retaining the actions of AD 2003-13-04 and adding MSN 2001 through 2092 for all the models of the PC-6 airplanes listed in the type certificate data sheet of Type Certificate (TC) No. 7A15. We are issuing this AD to detect and correct cracks in the ribs of the inboard integral fuel tanks in the left and right wings, which could lead to wing failure during flight with consequent loss of control of the airplane.

Compliance

(e) To address this problem, you must do the following:

Actions | Compliance | Procedures
(1) Inspect:
(i) The ribs in the inboard integral fuel tanks and related structure in the left and right wings for crack damage; | (A) For Group 1 Airplanes: Within the next 100 hours time-in-service (TIS) after August 15, 2003 (the effective date of AD 2003-13-04), unless already done | Follow Pilatus Aircraft Ltd. PC-6 Service Bulletin No. 57-002, dated November 27, 2002.
(ii) The upper and lower wing skins for damage; and (iii) The inboard fuel tank area to determine if the inboard fuel tank ventilating system is installed | (B) For Group 2 Airplanes: Within the next 90 days or 100 hours TIS, whichever occurs first, after August 23, 2006 (the effective date of this AD), unless already done
(2) If any crack damage is found:
(i) Correct the crack damage designated as repairable in the service bulletin (ii) For other crack damage, obtain a repair scheme from the manufacturer through FAA at the address specified in paragraph (f) of this AD and incorporate this repair scheme | Before further flight after the inspections required in paragraph (e)(1) of this AD | Follow Pilatus Aircraft Ltd. PC-6 Service Bulletin No. 57-002, dated November 27, 2002.
(3) If wing distortion is found, obtain a repair scheme from the manufacturer through FAA at the address specified in paragraph (f) of this AD and incorporate this repair scheme. | Before further flight after the inspections required in paragraph (e)(1) of this AD | Follow Pilatus Aircraft Ltd. PC-6 Service Bulletin No. 57-002, dated November 27, 2002.
(4) If the inboard fuel tank ventilating system is not installed, install the inboard fuel tank ventilating system | Before further flight after the inspections required in paragraph (e)(1) of this AD | Follow Pilatus Aircraft Ltd. PC-6 Service Bulletin No. 118, dated December 1972.

Alternative Methods of Compliance (AMOCs)

(f) The Manager, Standards Office, ATTN: Doug Rudolph, Aerospace Engineer, FAA, Small Airplane Directorate, 901 Locust, Room 301, Kansas City, Missouri 64106; telephone: (816) 329-4059; facsimile: (816) 329-4090, has the authority to approve AMOCs for this AD, if requested using the procedures found in 14 CFR 39.19.

(g) AMOCs approved for AD 2003-13-04 are approved for this AD.

Related Information

(h) Swiss AD Numbers HB 2003-092, dated February 17, 2003, and HB 2005-289, effective date August 23, 2005, also address the subject of this AD.

Material Incorporated by Reference

(i) You must do the actions required by this AD following the instructions in Pilatus Aircraft Ltd. PC-6 Service Bulletin No. 57-002, dated November 27, 2002, and Pilatus Aircraft Ltd. PC-6 Service Bulletin No. 118, dated December 1972.

(1) As of August 15, 2003 (68 FR 37394, June 24, 2003), the Director of the Federal Register previously approved the incorporation by reference of Pilatus Aircraft Ltd. PC-6 Service Bulletin No. 57-002, dated November 27, 2002; and Pilatus Aircraft Ltd. PC-6 Service Bulletin No. 118, dated December 1972, in accordance with 5 U.S.C. 552(a) and 1 CFR part 51.

(2) To get a copy of this service information, contact Pilatus Aircraft Ltd., Customer Liaison Manager, CH-6371 Stans, Switzerland; telephone: +41 41 619 63 19; facsimile: +41 41 619 6224. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2006-24093; Directorate Identifier 2006-CE-19-AD.

Issued in Kansas City, Missouri, on July 11, 2006.
Steven W. Thompson,
Acting Manager, Small Airplane Directorate, Aircraft Certification Service.

[FR Doc. E6-11339 Filed 7-18-06; 8:45 am]

BILLING CODE 4910-13-P